DEPARTMENT OF THE INTERIOR

Fish and Wildlife Service

50 CFR Part 32

Hunting and Fishing

CFR Correction

In Title 50 of the Code of Federal Regulations, Parts 18 to 199, revised as of October 1, 2015, on page 545, §§ 32.70, 32.71, and 32.72 are reinstated to read as follows:

§ 32.70 Wyoming.

The following refuge units have been opened for hunting and/or fishing, and are listed in alphabetical order with applicable refuge-specific regulations.

Cokeville Meadows National Wildlife Refuge

A. Migratory Game Bird Hunting. We allow hunting of ducks, dark geese, coots, mergansers, snipe, Virginia rail, Sora rail, sandhill crane, and mourning dove in accordance with State regulations and subject to the following conditions:

1. We prohibit hunting of migratory game birds in areas of the refuge indicated on the Cokeville Meadows National Wildlife Refuge Hunting Brochure and marked by signs as closed to all hunting or closed to migratory bird hunting.

2. You may only possess approved nontoxic shot while in the field (see § 32.2(k)).

3. We prohibit pits and permanent blinds.

4. You may use portable blinds or blinds constructed of natural dead vegetation (see § 27.51 of this chapter).

5. You must remove all decoys, shell casings, portable and temporary blinds, and other personal equipment (see §§ 27.93 and 27.94 of this chapter) from the refuge at the end of each day.

6. We prohibit possession or consumption of any alcoholic beverage while hunting (see § 32.2(j)).

7. Hunters may not enter closed areas to retrieve animals legally shot in an open area unless authorization has been given by a refuge employee or State Conservation Officer. Permission must be obtained from private landowners before attempting to retrieve game on private land.

8. Dogs must be leashed and/or under the direct control of a handler (see § 26.21(b) of this chapter). The use of dogs to find and retrieve legally harvested migratory game birds is allowed.

9. Hunters must park in a Designated Hunter Parking Area, as identified by signs.

10. Hunters are required to access and exit the hunting areas from a Designated Hunter Parking Area only. Drop off or pick up of hunters is prohibited except at Hunter Designated Parking Areas.

11. Hunters may only access the refuge 1 hour before legal sunrise until 1 hour after legal sunset.

B. Upland Game Hunting. We allow hunting of blue grouse, ruffed grouse, chuckar partridge, gray partridge, cottontail rabbits, snowshoe hares, squirrels (red, gray, and fox), red fox, raccoon, and striped skunk in accordance with State regulations and subject to the following conditions:

1. Conditions A2 through A7 and A9 through A11 apply.

2. We prohibit hunting of upland game species in areas of the refuge indicated on the Cokeville Meadows National Wildlife Refuge Hunting Brochure and marked by signs as closed to all hunting.

3. Dogs must be leashed and/or under the direct control of a handler. The use of dogs to find and retrieve legally harvested upland game birds, cottontail rabbits, and squirrels is allowed and encouraged. Dogs may not be used to chase red fox, raccoon, striped skunk, or any other species not specifically allowed in A8 or this paragraph.

4. Red fox, raccoon, and striped skunk may be taken on the refuge by licensed migratory bird, big game, or upland/small game hunters from September 1 until the end of the last open big game, upland bird, or small game season. Red fox, raccoon, or striped skunk that is harvested must be taken into possession and removed from the refuge.

5. We prohibit hunting of sage grouse.

C. Big Game Hunting. We allow hunting of elk, mule deer, white-tailed deer, pronghorn, and moose in accordance with State regulations and subject to the following conditions:

1. Conditions A3 through A7 and A9 through A11 apply.

2. We prohibit hunting of big game in areas of the refuge indicated on the Cokeville Meadows National Wildlife Refuge Hunting Brochure and marked by signs as closed to all hunting.

3. You may hunt with the aid of a temporary tree stand that does not require drilling or nailing into the tree. All personal property, including temporary tree stands, must be removed at the end of each day (see §§ 27.93 and 27.94 of this chapter).

D. Sport Fishing. [RESERVED]

National Elk Refuge

A. Migratory Game Bird Hunting. [Reserved]

B. Upland Game Hunting. [Reserved]

C. Big Game Hunting. Hunters may hunt elk and bison on designated areas of the refuge subject to the following conditions:

1. We require refuge permits (issued by State of Wyoming).

2. Hunters may not be let out of vehicles on refuge roads.

3. Shooting from or across refuge roads and parking areas is not permitted.

D. Sport Fishing. Anglers may sport fish on the refuge in accordance with state law, as specifically designated in refuge publications.

Pathfinder National Wildlife Refuge

A. Migratory Game Bird Hunting. Hunting of geese, ducks and coots is permitted on designated areas of the refuge.

B. Upland Game Hunting. We allow hunting of sage grouse and cottontail rabbit on designated areas of the refuge subject to the following condition: You may possess only approved nontoxic shot while in the field.

C. Big Game Hunting. Hunting of pronghorn antelope and deer is permitted on designated areas of the refuge.

D. Sport Fishing. [Reserved]

Seedskadee National Wildlife Refuge

A. Migratory Game Bird Hunting. We allow hunting of dark goose, duck, coot, merganser, dove, snipe, and rail on designated areas of the refuge in accordance with State regulations subject to the following conditions:

1. We prohibit hunting of migratory birds on the west side of the Green River between the south end of the Dunkle Unit and Highway 28. We post the boundary for this area with refuge signs stating “Area Closed to Migratory Bird Hunting”.

2. We prohibit all hunting between Highway 28 and 0.8 miles (1.28 km) north of the refuge headquarters on the west side of the Green River. We post the boundary for this area with refuge signs stating “No Hunting Zone”.

3. We open the refuge to the general public from ½ hour before legal sunrise to ½ hour after legal sunset. Waterfowl hunters may enter the refuge 1 hour before legal shooting hours to set up decoys and blinds.

4. Hunters must confine or leash dogs except when participating in a legal hunt (see § 26.21(b) of this chapter).

5. You must only use portable blinds or blinds constructed from dead and downed wood. We prohibit digging pit blinds.

6. You must remove portable blinds, tree stands, decoys, and other personal equipment (see § 27.93 of this chapter) from the refuge each day.

7. You must completely dismantle blinds constructed of dead and downed wood at the end of the waterfowl hunting season.

8. We only allow hunters to retrieve downed game from closed areas with consent from a refuge employee or State game warden.

9. You must unload and either case or dismantle all firearms (see § 27.42(b) of this chapter) when transporting them in a vehicle or boat under power.

B. Upland Game Hunting. We allow hunting of sage grouse, cottontail rabbit, jackrabbit, raccoon, fox, and skunk on designated areas of the refuge in accordance with State regulations subject to the following conditions:

1. Conditions A2, A8, and A9 apply.

2. We open the refuge to the general public from ½ hour before legal sunrise to ½ hour after legal sunset.

3. Hunters must confine or leash dogs (see § 26.21(b) of this chapter) except when participating in a legal hunt for sage grouse, cottontail rabbit, or jackrabbit.

4. When using shotguns or muzzleloaders, you may only possess approved nontoxic shot (see § 32.2(k)) while in the field.

C. Big Game Hunting. We allow hunting of antelope, mule deer, and moose on designated areas of the refuge in accordance with State regulations subject to the following conditions:

1. Conditions A2, A8, A9, and B2 apply.

D. Sport Fishing. We allow fishing on the refuge in accordance with State regulations subject to the following conditions:

1. Condition B2 applies.

2. You must only launch or pick up trailered boats at the following boat ramps: Dodge Bottom, Hayfarm, Lombard, and Six-Mile.

3. We prohibit taking of mollusk, crustacean, reptile, and amphibian from the refuge.

[58 FR 5064, Jan. 19, 1993, as amended at 59 FR 55188, Nov. 3, 1994; 60 FR 62049, Dec. 4, 1995; 62 FR 47383, Sept. 9, 1997; 63 FR 2182, Jan. 14, 1998; 65 FR 30795, May 12, 2000; 67 FR 58952, Sept. 18, 2002; 69 FR 54362, 54473, Sept. 8, 2004; 76 FR 4000, Jan. 21, 2011; 79 FR 14844, Mar. 17, 2014]

§ 32.71 United States Unincorporated Pacific Insular Possessions.

The following refuge units have been opened to hunting and/or fishing, and are listed in alphabetical order with applicable refuge-specific regulations.

Johnston Island National Wildlife Refuge

A. Migratory Game Bird Hunting. [Reserved]

B. Upland Game Hunting. [Reserved]

C. Big Game Hunting. [Reserved]

D. Sport Fishing. [Reserved]

Midway Atoll National Wildlife Refuge

A. Migratory Game Bird Hunting. [Reserved]

B. Upland Game Hunting. [Reserved]

C. Big Game Hunting. [Reserved]

D. Sport Fishing. [Reserved]

[58 FR 5064, Jan. 19, 1993, as amended at 59 FR 55188, Nov. 3, 1994; 61 FR 46399, Sept. 3, 1996; 63 FR 46922, Sept. 3, 1998; 65 FR 30795, May 12, 2000; 65 FR 56411, Sept. 18, 2000; 69 FR 54362, 54474, Sept. 8, 2004; 73 FR 33200, June 11, 2008]

§ 32.72 Guam.

We have opened the following refuge unit to hunting and/or fishing with applicable refuge-specific regulations.

Guam National Wildlife Refuge

A. Migratory Game Bird Hunting. [Reserved]

B. Upland Game Hunting. [Reserved]

C. Big Game Hunting. [Reserved]

D. Sport Fishing. Anglers may fish and collect marine life on designated areas of the refuge only in accordance with refuge and Government of Guam laws and regulations. The leaflet is available at the refuge headquarters and anglers are subject to the following additional conditions:

1. Anglers may be on the refuge from 8:30 a.m. until 5:00 p.m. daily, except Thanksgiving, Christmas, and New Year's Day.

2. We prohibit overnight camping on the refuge.

3. You may not possess surround or gill nets on the refuge.

4. We prohibit the collection of corals, giant clams (Tridacna and Hippopus spp.), and coconut crabs (Birgus latro) on the refuge.

5. We prohibit use of Self Contained Underwater Breathing Apparatus (SCUBA) to take fish or invertebrates.

6. We prohibit anchoring boats on the refuge.

7. We prohibit sailboards or motorized personal watercraft on the refuge.

[65 FR 30795, May 12, 2000, as amended at 66 FR 46363, Sept. 4, 2001; 67 FR 58953, Sept. 18, 2002; 69 FR 54362, Sept. 8, 2004]

[FR Doc. 2016-19797 Filed 8-17-16; 8:45 am]

BILLING CODE 1505-01-D